DEPARTMENT OF TRANSPORTATION

National Highway Traffic Safety Administration

[Docket No. NHTSA 2003-14826; Notice 1]

Nissan North America, Inc., Receipt of Application for Decision of Inconsequential Noncompliance

Nissan North America (Nissan) has determined that the side marker lamps in approximately 302,000 model year 2002 and 2003 Nissan Altima vehicles do not meet certain requirements of Federal Motor Vehicle Safety Standard (FMVSS) No. 108, “Lamps, Reflective Devices and Associated Equipment.

Pursuant to 49 U.S.C. 30118(d) and 30120(h), Nissan has petitioned for a determination that this noncompliance is inconsequential to motor vehicle safety and has filed an appropriate report pursuant to 49 CFR Part 573, “Defect and Noncompliance Reports.” A copy of this petition can be found in this docket.

This notice of receipt of an application is published under 49 U.S.C. 30118 and 30120 and does not represent any agency decision or other exercise of judgment concerning the merits of the application.

FMVSS 108 S5.1.1 specifies that each vehicle shall be equipped with certain lamps and reflective devices. Nissan stated that extensive testing demonstrates that the subject side marker lamps consistently meet the light intensity requirements at the required test points. However, Nissan determined that the front side marker lamps may not meet the requirement to sustain the light intensity when measured between two of the nine test points in a scan test. Nissan believes that the noncompliance of the side lamps does not affect its primary purpose, which is to be sufficiently visible to identify the front edge of the vehicle at night. Nissan stated that the reported noncompliance is inconsequential as it relates to motor vehicle safety.

Its petition may be read by visiting the above mentioned docket using the Docket Management System described below.

Interested persons are invited to submit written data, views, and arguments on the application described above. Comments must refer to the docket and notice number cited at the beginning of this notice and be submitted to: U.S. Department of Transportation, Docket Management, Room PL-401, 400 Seventh Street, SW., Washington, DC, 20590. It is requested, but not required, that two copies of the comments be provided. The Docket Section is open on weekdays from 10 a.m. to 5 p.m. Comments may be submitted electronically by logging onto the Docket Management System Web site at http://dms.dot.gov. Click on “Help” to obtain instructions for filing the document electronically.

All comments received before the close of business on the closing date indicated below will be considered. The application and supporting materials, and all comments received after the closing date, will also be filed and will be considered to the extent possible. When the application is granted or denied, the notice will be published in the Federal Register pursuant to the authority indicated below. Comment closing date: November 20, 2003.

(49 U.S.C. 301118, 301120; delegations of authority at 49 CFR 1.50 and 501.8)

Issued on: October 14, 2003.
Stephen R. Kratzke,
Associate Administrator for Rulemaking.

[FR Doc. 03-26508 Filed 10-20-03; 8:45 am]

BILLING CODE 4910-59-P